DEPARTMENT OF DEFENSE

Department of the Navy

Notice of Intent To Grant Partially Exclusive Patent License; ICAP Patent Brokerage, LLC

AGENCY: Department of the Navy, DoD.

ACTION: Notice.

SUMMARY: The Department of the Navy hereby gives notice of its intent to grant to ICAP Patent Brokerage, LLC, a revocable, nonassignable, partially exclusive license in the United States to practice the Government-Owned inventions described in U.S. Patent No. 6,011,291: Video Display With Integrated Control Circuitry Formed On a Dielectric Substrate//U.S. Patent No. 6,312,968: Method For Fabricating an Electrically Addressable Silicon-On-Sapphire Light Valve//U.S. Patent No. 8,073,804: System and Method For Type 2 KASER (Knowledge Amplification by Structured Expert Randomization)//U.S. Patent No. 8,085,459: Plasmonic Transistor//U.S. Patent No. 8,094,317: Plasmonic Router//U.S. Patent No. 8,107,151: Plasmonic Logic Device//U.S. Patent No. 8,111,443: Plasmonic Transistor//U.S. Patent No. 8,530,885: Graphene-Based Conductive, Lossless Photonic Bandgap Method and Apparatus//U.S. Patent No. 8,537,457: Plasmonic Correlation Spectrometer.

DATES: Anyone wishing to object to the grant of this license must file written objections along with supporting evidence, if any, not later than December 19, 2013.

ADDRESSES: Written objections are to be filed with the Office of Research and Technology Applications, Space and Naval Warfare Systems Center Pacific, Code 72120, 53560 Hull St, Bldg A33 Room 2531, San Diego, CA 92152-5001.

FOR FURTHER INFORMATION CONTACT: Brian Suh, Office of Research and Technology Applications, Space and Naval Warfare Systems Center Pacific, Code 72120, 53560 Hull St, Bldg A33 Room 2531, San Diego, CA 92152-5001, telephone 619-553-5118, EMail: brian.suh@navy.mil.

Authority: 35 U.S.C. 207, 37 CFR Part 404.

Dated: November 25, 2013.
N. A. Hagerty-Ford,
Commander, Office of the Judge Advocate General, U.S. Navy, Federal Register Liaison Officer.

[FR Doc. 2013-29003 Filed 12-3-13; 8:45 am]

BILLING CODE 3810-FF-P